INTERNATIONAL TRADE COMMISSION

[Investigation No. AGOA-07]

Commercial Availability of Fabric and Yarns in AGOA Countries

AGENCY: United States International Trade Commission.

ACTION: Institution of investigation and scheduling of hearing.

SUMMARY: Following enactment of legislation that amends the African Growth and Opportunity Act (AGOA) to provide for certain determinations by the Commission, the Commission has instituted investigation No. AGOA-07, Commercial Availability of Fabric and Yarns in AGOA Countries, for the purpose of gathering information and making the determinations required through September 30, 2007, with respect to the denim articles identified in the statute.

DATES: April 2, 2007: Institution of investigation.

May 22, 2007: Deadline for filing requests to appear at the hearing.

May 24, 2007: Deadline for filing pre-hearing briefs and statements.

June 5, 2007: Public hearing.

June 19, 2007: Deadline for filing post-hearing briefs and statements.

August 3, 2007: Deadline for filing all written submissions.

August 24, 2007: Deadline for filing supplemental written submissions.

September 25, 2007: Transmittal of Commission report to the President.

ADDRESSES: All Commission offices, including the Commission's hearing rooms, are located in the United States International Trade Commission Building, 500 E Street SW., Washington, DC. All written submissions, including requests to appear at the hearing, statements, and briefs, should be addressed to the Secretary, United States International Trade Commission, 500 E Street SW., Washington, DC 20436. The public record for this investigation may be viewed on the Commission's electronic docket (EDIS) at http://edis.usitc.gov.

FOR FURTHER INFORMATION CONTACT: Information specific to this investigation may be obtained from Linda Linkins, Project Leader (202-205-3231; linda.linkins@usitc.gov), Office of Operations, United States International Trade Commission, Washington, DC, 20436 or Jackie Jones, Co-Project Leader (202-205-3466; jackie.jones@usitc.gov), Office of Industries. For information on the legal aspects of this investigation, contact William Gearhart of the Office of the General Counsel (202-205-3091; william.gearhart@usitc.gov). General information concerning the Commission may also be obtained by accessing its Internet server (http://www.usitc.gov). Hearing-impaired individuals may obtain information on this matter by contacting the Commission's TDD terminal on (202) 205-1810. Persons with mobility impairments who will need special assistance in gaining access to the Commission should contact the Office of the Secretary at 202-205-2000.

BACKGROUND AND SUPPLEMENTARY INFORMATION: On December 20, 2006, the President signed into law amendments to section 112 of the African Growth and Opportunity Act (19 U.S.C. 3721) (AGOA), included in Public Law 109-432, that require the Commission to make certain determinations relating to the commercial availability of regional fabric or yarn for use in lesser developed beneficiary sub-Saharan African countries. Specifically, section 112(c)(2)(A) of the AGOA (as amended) requires the Commission, upon receipt of a petition (properly filed), to determine whether a fabric or yarn produced in beneficiary sub-Saharan African countries is available in commercial quantities for use by lesser developed beneficiary sub-Saharan African countries. If the Commission makes an affirmative determination, section 112(c)(2)(B)(i) requires that the Commission determine the quantity of the fabric or yarn that will be so available in lesser developed beneficiary sub-Saharan African countries in the applicable 1-year period (October 1-September 30) after the determination is made.

Thereafter, in each case in which the Commission determines that a fabric or yarn is available in commercial quantities for an applicable 1-year period, section 112(c)(2)(B)(ii) requires that the Commission determine, before the end of that applicable 1-year period, whether the fabric or yarn produced in beneficiary sub-Saharan African countries will be available in commercial quantities in the succeeding applicable 1-year period, and if so, the quantity of the fabric or yarn that will be so available in the succeeding 1-year period, subject to section 112(c)(2)(B)(iii). After the end of each applicable 1-year period for which such a determination under section 112(c)(2)(B)(i) is in effect, the Commission must make the determination required by section 112(c)(2)(B)(iii) with respect to the quantity of fabric or yarn used in the production of apparel articles receiving preferential treatment under section 112(c)(1) that was entered in the applicable 1-year period and, to the extent that the quantity so determined was not so used, add to the quantity of that fabric or yarn determined to be available in the next applicable 1-year period the quantity not so used in the preceding 1-year period.

Section 112(c)(2)(C) of AGOA states that denim articles provided for in subheading 5209.42.00 of the Harmonized Tariff Schedule of the United States shall be deemed to be available in commercial quantities and specifies the quantity available for the 1-year period beginning October 1, 2006. Accordingly, pursuant to section 112(c)(2)(B)(ii), the Commission must determine before September 30, 2007, whether such denim articles produced in beneficiary sub-Saharan African countries will be available in commercial quantities in the succeeding 1-year period and, if so, the quantity that will be so available in that succeeding 1-year period, subject to clause (iii).

On February 27, 2007, the Commission published an interim rule in the Federal Register, that became effective upon publication (72 FR 8624), describing the procedures it will follow in making determinations in response to petitions received and accepted from interested parties under section 112(c)(2)(A) of AGOA. The interim rule also describes the information that must be included in a petition if it is to be accepted by the Commission. The Commission indicated that it will make its determinations under section 112(c)(2)(A) by September 25, 2007, with respect to petitions received on or before March 28, 2007, and accepted on or before April 11, 2007, and, for any such determinations that are in the affirmative, it will make its determinations with respect to the quantity available in fiscal 2008 (October 1, 2007-September 30, 2008) by September 25, 2007.

For docketing and other purposes, the Commission's proceedings and actions with respect to denim articles have been designated as investigation No. AGOA-07-001. No petitions were filed on or before March 28, 2007.

Public Hearing: A public hearing in connection with this investigation will be held at the U.S. International Trade Commission Building, 500 E Street SW., Washington, DC beginning at 9:30 a.m. on June 5, 2007. Requests to appear at the public hearing should be filed with the Secretary, no later than 5:15 p.m., May 22, 2007, in accordance with the requirements in the “Submissions” section below. In the event that, as of the close of business on May 22, 2007, no witnesses are scheduled to appear at the hearing, the hearing will be canceled. Any person interested in attending the hearing as an observer or non-participant may call the Secretary (202-205-2000) after May 22, 2007, to determine whether the hearing will be held.

Statements and Briefs: In lieu of or in addition to participating in the hearing, parties and non-parties are invited to submit written statements or briefs concerning the investigation in accordance with the requirements in the “Submissions” section below. Any prehearing briefs or statements should be filed not later than 5:15 p.m., May 24, 2007; the deadline for filing post-hearing briefs or statements is 5:15 p.m., June 19, 2007. To be assured of consideration by the Commission, written statements relating to the Commission's report should be submitted to the Commission at the earliest practical date and must be received no later than the close of business on August 3, 2007. Any parties and non-parties who filed timely submissions may file supplemental submissions. Such supplemental submissions must be filed no later than the close of business on August 24, 2007, and the information contained therein shall be limited to information not available at the time of the August 3 submission.

Submissions: All written submissions including requests to appear at the hearing, statements, and briefs should be addressed to the Secretary, United States International Trade Commission, 500 E Street SW., Washington, DC 20436. All written submissions must conform with § 201.8 of the Commission's Rules of Practice and Procedure (19 CFR 201.8). Section 201.8 of the rules requires that a signed original (or copy designated as an original) and fourteen (14) copies of each document be filed. In the event that confidential treatment of the document is requested, at least four (4) additional copies must be filed, in which the confidential business information must be deleted (see the following paragraph for further information regarding confidential business information). The Commission's rules do not authorize the filing of submissions with the Secretary by facsimile or electronic means, except to the extent permitted by section 201.8 of the rules (see Handbook for Electronic Filing Procedures, http://www.usitc.gov/secretary/fed_reg_notices/rules/documents/handbook_on_electronic_filing.pdf). Persons with questions regarding electronic filing should contact the Secretary (202-205-2000 or edis@usitc.gov).

Any submissions that contain confidential business information must also conform with the requirements of section 201.6 of the Commission's Rules of Practice and Procedure (19 CFR 201.6). Section 201.6 of the rules requires that the cover of the document and the individual pages be clearly marked as to whether they are the “confidential” or “nonconfidential” version, and that the confidential business information be clearly identified by means of brackets. All written submissions, except for confidential business information, will be made available in the Office of the Secretary for inspection by interested parties.

The Commission may include some or all of the confidential business information submitted in the course of this investigation in the report it sends to the President. After transmitting its report, the Commission intends to publish a public version of its report, with any confidential business information deleted. Any confidential business information received by the Commission in this investigation and used in preparing the report will not be published in the public version of the report in a manner that would reveal the operations of the firm supplying the information.

Issued: April 3, 2007.
By order of the Commission.
Marilyn R. Abbott,
Secretary to the Commission.

[FR Doc. E7-6600 Filed 4-6-07; 8:45 am]

BILLING CODE 7020-02-P